DEPARTMENT OF DEFENSE

Department of the Navy

Privacy Act of 1974; System of Records

AGENCY: Department of the Navy, DoD.

ACTION: Notice to delete systems of records.

SUMMARY: The Department of the Navy is deleting a system of records notice from its existing inventory of records systems subject to the Privacy Act of 1974, (5 U.S.C. 552a), as amended.

DATES: Effective July 24, 2006.

ADDRESSES: Department of the Navy, PA/FOIA Policy Branch, Chief of Naval Operations, (DNS-36), 2000 Navy Pentagon, Washington, DC 20350-2000.

FOR FURTHER INFORMATION CONTACT: Ms. Doris Lama at (202) 685-6545.

SUPPLEMENTARY INFORMATION: The Department of the Navy system of records notices subject to the Privacy Act of 1974, (5 U.S.C. 552a), as amended, have been published in the Federal Register and are available from the address above.

The proposed deletion is not within the purview of subsection (r) of the Privacy Act of 1974, (5 U.S.C. 552a), as amended, which requires the submission of a new or altered system report.

Dated: July 17, 2006.
C.R. Choate,
Alternate OSD Federal Register Liaison Officer, Department of Defense.

MIL00019

System name:

Equipment and Weapons Receipt or Custody Files (April 8, 2002, 67 FR 16738).

Reason:

The system of records is maintained under Department of the Navy systems of records notice NM07320-1, entitled, Property Accountability Records (May 31, 2006, 71 FR 30894).

[FR Doc. 06-6414 Filed 7-21-06; 8:45 am]

BILLING CODE 5001-06-M